DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of open meeting.

SUMMARY: Notice is hereby given of a meeting of the Sanctuary System Business Advisory Council (council). The meeting is open to the public, an opportunity for “oral and written” comments will be provided.

DATES: The meeting will be held Thursday, January 14, 2021 from 12 to 3 p.m. ET, and an opportunity for public comment will be provided around 2:15 p.m. ET. Both these times and agenda topics are subject to change.

ADDRESSES: The meeting will be held virtually. To participate in the public meeting, online registration is requested in advance via the link below. After registering, you will receive a confirmation email containing information about joining the webinar. If you are unable to participate online, you can also connect to the public meeting using the phone number provided below.

Registration: https://attendee.gotowebinar.com/register/3251401429937219595.

Phone: +1 (914) 614-3221, Pin: 375-797-022.

To provide a public comment during the virtual meeting, please sign up in advance. Select “yes” during the online registration. The line-up of speakers will be based on your date and time of registration. By selecting “yes”, you agree that these communications, including your name and comment, will be maintained by the Office of National Marine Sanctuaries as part of its administrative record and may be subject to release pursuant to the Freedom of Information Act.

FOR FURTHER INFORMATION CONTACT: Katie Denman, Office of National Marine Sanctuaries, 1305 East West Highway, N/NMS, Silver Spring, Maryland 20910 (Phone: 240-533-0702; Email: Katie.Denman@noaa.gov).

SUPPLEMENTARY INFORMATION: ONMS serves as the trustee for a network of underwater parks encompassing more than 620,000 square miles of marine and Great Lakes waters from Washington State to the Florida Keys, and from Lake Huron to American Samoa. The network includes a system of 14 national marine sanctuaries and Papahānaumokuākea and Rose Atoll marine national monuments. National marine sanctuaries protect our nation's most vital coastal and marine natural and cultural resources, and through active research, management, and public engagement, sustain healthy environments that are the foundation for thriving communities and stable economies.

One of the many ways ONMS ensures public participation in the designation and management of national marine sanctuaries is through the formation of advisory councils. The Sanctuary System Business Advisory Council (council) has been formed to provide advice and recommendations to the Director regarding the relationship of ONMS with the business community. Additional information on the council can be found at http://sanctuaries.noaa.gov/management/ac/welcome.html.

Matters to be discussed: The meeting will include updates from the Office of National Marine Sanctuaries, introductions from the newly appointed members, an overview of Business Advisory Council member roles and responsibilities including the formation of and goals for working groups to address issues related to sustainable recreation and tourism in national marine sanctuaries, and an opportunity for the public to provide written and oral comments. For a complete agenda, including times and topics, please visit http://sanctuaries.noaa.gov/management/bac/meetings.html.

Authority: 16 U.S.C. Sections 1431, et seq.

John Armor,
Director, Office of National Marine Sanctuaries, National Ocean Service, National Oceanic and Atmospheric Administration.

[FR Doc. 2020-28630 Filed 12-28-20; 8:45 am]

BILLING CODE 3510-NK-P